DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the American Museum of Natural History professional staff in consultation with representatives of the Ak Chin Indian Community of the Maricopa (Ak Chin) Indian Reservation, Arizona, and Tohono O'odham Nation of Arizona.

In 1902, human remains representing a minimum of one individual were collected by Dr. Ales Hrdlicka from southern Arizona, while Dr. Hrdlicka was a member of the Hyde Expedition, sponsored by the American Museum of Natural History. No known individual was identified. No associated funerary objects are present.

This individual has been identified as Native American based on the American Museum of Natural History’s catalog entry describing the remains as “Papago.” Geographic location is consistent with the postcontact territory of the Tohono O’odham, who are represented by the Tohono O’odham Nation of Arizona and the Ak Chin Indian Community of the Maricopa (Ak Chin) Indian Reservation, Arizona. The presence of desiccated soft tissue and bone stained by copper or brass suggests a postcontact date for this burial.

Based on the above-mentioned information, officials of the American Museum of Natural History have determined that, pursuant to 43 CFR 10.2 (d)(1), the human remains listed above represent the physical remains of a minimum of one individual of Native American ancestry. Officials of the American Museum of Natural History also have determined that, pursuant to 43 CFR 10.2 (e), there is a relationship of shared group identity that can be reasonably traced between these Native American human remains and the Ak Chin Indian Community of the Maricopa (Ak Chin) Indian Reservation, Arizona, and Tohono O'odham Nation of Arizona.This notice has been sent to officials of the Ak Chin Indian Community of the Maricopa (Ak Chin) Indian Reservation, Arizona, and Tohono O'odham Nation of Arizona. Representatives of any other Indian tribe that believes itself to be culturally affiliated with these human remains should contact Martha Graham, Director of Cultural Resources, American Museum of Natural History, Central Park West at 79th Street, New York, NY 10024-5192, telephone (212) 769-5846, before November 8, 2001. Repatriation of the human remains to the Ak Chin Indian Community of the Maricopa (Ak Chin) Indian Reservation, Arizona, and Tohono O'odham Nation of Arizona may begin after that date if no additional claimants come forward.

Dated: August 15, 2001.
John Robbins,
Assistant Director, Cultural Resources Stewardship and Partnerships.

[FR Doc. 01-25147 Filed 10-5-01; 8:45 am]

BILLING CODE 4310-70-S